DEPARTMENT OF DEFENSE

Defense Threat Reduction Agency; Privacy Act of 1974; Systems of Records

AGENCY: Defense Threat Reduction Agency, DOD.

ACTION: Notice to Amend a System of Records; HDTRA 011-Inspector General Investigation Files.

SUMMARY: The Defense Threat Reduction Agency is amending a system of records notice to its existing inventory of record systems subject to the Privacy Act of 1974 (5 U.S.C. 552a), as amended.

DATES: This proposed action will be effective without further notice on September 2, 2005 unless comments are received that would result in a contrary determination.

ADDRESSES: Send comments to the General Counsel, Defense Threat Reduction Agency, 8725 John J. Kingman Road, Fort Belvoir, VA 22060-6201.

FOR FURTHER INFORMATION CONTACT: Ms. Brenda Carter at (703) 325-1205.

SUPPLEMENTARY INFORMATION: The Defense Threat Reduction Agency notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: July 15, 2005.
Jeannette Owings-Ballard,
OSD Federal Register Liaison Officer, Department of Defense.

HDTRA 011

System name:

Inspector General Investigation Files (December 14, 1998, 63 FR 68736).

Changes:

* * * * *

System location:

Delete entry and replace with “Office of the Inspector General, Defense Threat Reduction Agency, 8725 John J. Kingman Road, Fort Belvoir, VA 22060-6201.”

* * * * *

Authority for maintenance of the system:

Delete entry and replace with “5 U.S.C. Appendix 4, Ethics in Government; 10 U.S.C. 141, Inspector General; DTRA 5505.2, DTRA Inspector General (IG) Inquiry and Investigation Procedures; The Inspector General Act of 1978 (5 U.S.C. Appendix 3); and E.O. 9397 (SSN).”

* * * * *

Safeguards:

Delete “Commanding Officer, or Officer-in-Charge” and replace with “Director”

Retention and disposal:

Delete entry and replace with “Requests for assistance and/or complaints acted on by the Inspector General are retained in office for 1 year after completion of investigation, transferred to the Federal Records Center and then transferred to the National Archives in 10 year blocks when 20-30 years old.”

System manager(s) and address:

Delete entry and replace with “Office of the Inspector General, Defense Threat Reduction Agency, 8725 John J. Kingman Road, Fort Belvoir, VA 22060-6201.”

Notification procedure:

Delete address and replace with “General Counsel, Defense Threat Reduction Agency, 8725 John J. Kingman Road, Fort Belvoir, VA 22060-6201.”

Record access procedures:

Delete address and replace with “General Counsel, Defense Threat Reduction Agency, 8725 John J. Kingman Road, Fort Belvoir, VA 22060-6201.”

Contesting record procedures:

Delete address and replace with “General Counsel, Defense Threat Reduction Agency, 8725 John J. Kingman Road, Fort Belvoir, VA 22060-6201.”

* * * * *

Exemptions claimed for the system:

Delete address and replace with “General Counsel, Defense Threat Reduction Agency, 8725 John J. Kingman Road, Fort Belvoir, VA 22060-6201.”

* * * * *

HDTRA 011

System name:

Inspector General Investigation Files.

System location:

Office of the Inspector General, Defense Threat Reduction Agency, 8725 John J. Kingman Road, Fort Belvoir, VA 22060-6201.

Categories of individuals covered by the system:

Any person who is the subject of or a witness for an Inspector General investigation.

Categories of records in the system:

The system contains files on individual investigations including investigative reports and related documents generated during the course of or subsequent to an investigation.

Reports of investigation contain the authority for the investigation, matters investigated, narrative, documentary evidence, and transcripts of verbatim testimony or summaries thereof.

The system includes ‘Hotline’ telephone logs, investigator work papers and memoranda and letter referrals to management or others, and a chronological listing for identification and location of files.

Authority for maintenance of the system:

5 U.S.C. Appendix 4, Ethics in Government; 10 U.S.C. 141, Inspector General; DTRA 5505.2, DTRA Inspector General (IG) Inquiry and Investigation Procedures; The Inspector General Act of 1978 (5 U.S.C. Appendix 3); and E.O. 9397 (SSN).

Purpose(s):

To investigate the facts and circumstances surrounding allegations or problems reported to the OIG.

Open and closed case listings are used to manage investigations, to produce statistical reports, and to control various aspects of the investigative process.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of the DTRA's compilation of systems of records notices will apply to this system.

Policies and practices for storing, retrieving, accessing, retaining, and disposing of records in the system:

Storage:

Paper records in file folders, computer disks and log books.

Retrievability:

Retrieved alphabetically by surname of individual, year, investigation number, hotline case number, referral number or investigative subject matter.

Safeguards:

Access is limited to the Inspector Generals staff, and, as delegated by the Director on a need to know basis. Case records are maintained in locked security containers.

Automated records are controlled by limiting physical access to terminals and by the use of passwords. Work areas are sight controlled during normal duty hours. Buildings are protected by security guards and an intrusion alarm system.

Retention and disposal:

Requests for assistance and/or complaints acted on by the Inspector General are retained in office for 1 year after completion of investigation, transferred to the Federal Records Center and then transferred to the National Archives in 10 year blocks when 20-30 years old.

System manager(s) and address:

Office of the Inspector General, Defense Threat Reduction Agency, 8725 John J. Kingman Road, Fort Belvoir, VA 22060-6201.

Notification procedure:

Individuals seeking to determine whether this system of records contains information on themselves should address written inquiries to the General Counsel, Defense Threat Reduction Agency, 8725 John J. Kingman Road, Fort Belvoir, VA 22060-6201.

Individuals should provide their name, address, and proof of identity (photo identification for in person access or an unsworn declaration in accordance with 28 U.S.C. 1746 or a notarized statement may be required for identity verification).

Record access procedures:

Individuals seeking access to information about themselves contained in this system of records should address written inquiries to the General Counsel, Defense Threat Reduction Agency, 8725 John J. Kingman Road, Fort Belvoir, VA 22060-6201.

Individuals should provide their name, address, and proof of identity (photo identification for in person access or an unsworn declaration in accordance with 28 U.S.C. 1746 or a notarized statement may be required for identity verification).

Contesting record procedures:

The DTRA rules for accessing records and for contesting contents and appealing initial agency determinations are published in DTRA Instruction 5400.11B; 32 CFR part 318; or may be obtained from the General Counsel, Defense Threat Reduction Agency, 8725 John J. Kingman Road, Fort Belvoir, VA 22060-6201.

Record source categories:

From the individual, DTRA records and reports, DTRA employees, witnesses, informants, and other sources providing or containing pertinent information.

Exemptions claimed for the system:

Investigatory material compiled for law enforcement purposes may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

An exemption rule for this system has been promulgated in accordance with requirements of 5 U.S.C. 553(b)(1), (2), and (3), (c), and (e) and published in 32 CFR part 318. For additional information contact the General Counsel, Defense Threat Reduction Agency, 8725 John J. Kingman Road, Fort Belvoir, VA 22060-6201.

[FR Doc. 05-15351 Filed 8-2-05; 8:45 am]

BILLING CODE 5001-06-P